NATIONAL SCIENCE FOUNDATION

Special Emphasis Panel in Research, Evaluation and Communication; Notice of Meeting

In accordance with the Federal Advisory Committee Act (Pub. L. 92-463, as amended), the National Science Foundation announces the following meeting:

Name: Special Emphasis Panel in Research, Evaluation and Communication (1210).

Date/Time: May 8-9, 2000; 8 a.m. to 5 p.m.

Place: Room 880, National Science Foundation, 4201 Wilson Boulevard, Arlington, VA.

Type of Meeting: Partially Open.

Contact Person: Dr. Conrad Katzenmeyer, National Science Foundation, 4201 Wilson Boulevard, Arlington, VA 22230. Telephone: (703) 306-1650.

Purpose of Meeting: To carry out a Committee of Visitors (COV) review of the Evaluation program, including the discussion of management, programmatic and evaluation issues according to procedures established by the Foundation's GPRA requirements.

Agenda: May 8, 2000, 10 a.m. to 5 p.m. Closed review of privileged documents.

May 9, 2000, 8 a.m. to 1 p.m. Closed review of privileged documents.

May 9, 2000, 2 p.m. to 3:30 p.m. Open discussion on the impact of the projects funded and an evaluation of the programs. Session is open to meet requirements of Government Performance and Results Act.

Reason for Closing: During the closed session, the COV will be reviewing proposal actions, which will include privileged intellectual property and personal information not available for disclosure. Such deliberation is exempt under 5 U.S.C. 552b(c), (4) and (6) of the Government in the Sunshine Act.

Dated: April 13, 2000.
Karen J. York,
Committee Management Officer.

[FR Doc. 00-10120 Filed 4-21-00; 8:45 am]

BILLING CODE 7555-01-M